CONSUMER PRODUCT SAFETY COMMISSION

Sunshine Act Meetings

Time and Date: Thursday, October 26, 2006, 10 a.m.

Place: Room 420, Bethesda Towers, 4330 East West Highway, Bethesda, Maryland.

Status: Open to the Public.

Matter to Be Considered: Portable Generators:

Advance Notice of Proposed Rulemaking (ANPR).

The staff will brief the Commission on issues related to an advance notice of proposed rulemaking for portable generators.

For a recorded message containing the latest agenda information, call (301) 504-7948.

Contact Person for More Information: Todd A. Stevenson, Office of the Secretary, U.S. Consumer Product Safety Commission, 4330 East West Highway, Bethesda, MD 20814 (301) 504-7923.

Dated: October 16, 2006.
Todd A. Stevenson,
Secretary.

[FR Doc. 06-8786 Filed 10-16-06; 2:45pm]

BILLING CODE 6355-01-M